NUCLEAR REGULATORY COMMISSION

10 CFR Parts 30 and 70

[Docket No. NRC-2017-0031]

RIN 3150-AK52

Decommissioning Financial Assurance for Sealed and Unsealed Radioactive Materials; Correction

AGENCY: Nuclear Regulatory Commission.

ACTION: Regulatory basis; correction.

SUMMARY: The U.S. Nuclear Regulatory Commission (NRC) is correcting the notification published in the Federal Register on July 19, 2022, regarding reopening the comment period and correcting a publication error for a regulatory basis to support a rulemaking that would amend its regulations for decommissioning financial assurance for sealed and unsealed radioactive materials. This action is necessary to correct the information for the NRC's Public Document Room.

DATES: The correction is effective August 5, 2022.

FOR FURTHER INFORMATION CONTACT: Gregory Trussell, Office of Nuclear Material Safety and Safeguards, U.S. Nuclear Regulatory Commission, Washington, DC 20555-0001; telephone: 301-415-6244; email: Gregory.Trussell@nrc.gov.

SUPPLEMENTARY INFORMATION: In the Federal Register (FR) on July 19, 2022, in FR Doc. 2022-15320, on page 42969, the following correction is made:

On page 42969, second column, Section I.A, “Obtaining and Submitting Comments,” the third bullet:

• NRC's PDR: You may examine and purchase copies of public documents at the NRC's PDR, Room O1-F21, One White Flint North, 11555 Rockville Pike, Rockville, Maryland 20852.

is corrected to read:

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. (ET), Monday through Friday, except Federal holidays.

Dated: August 1, 2022.
For the Nuclear Regulatory Commission.
Cindy K. Bladey,
Chief, Regulatory Analysis and Rulemaking Support Branch, Division of Rulemaking, Environmental, and Financial Support, Office of Nuclear Material Safety and Safeguards.

[FR Doc. 2022-16777 Filed 8-4-22; 8:45 am]

BILLING CODE 7590-01-P